DEPARTMENT OF THE INTERIOR

National Park Service

[NPS-WASO-NAGPRA-NPS0039096; PPWOCRADN0-PCU00RP14.R50000]

Notice of Intended Repatriation: Autry Museum of the American West, Los Angeles, CA

AGENCY: National Park Service, Interior.

ACTION: Notice.

SUMMARY: In accordance with the Native American Graves Protection and Repatriation Act (NAGPRA), the Autry Museum of the American West (Southwest Museum Collection) intends to repatriate certain cultural items that meet the definition of unassociated funerary objects and that have a cultural affiliation with the Indian Tribes or Native Hawaiian organizations in this notice.

DATES: Repatriation of the cultural items in this notice may occur on or after December 26, 2024.

ADDRESSES: Karimah Richardson, M. Phil, RPA, Associate Curator of Anthropology and Repatriation Supervisor, Autry Museum of the American West, 4700 Western Heritage Way, Los Angeles, CA 90027, telephone (323) 495-4203, email krichardson@theautry.org.

SUPPLEMENTARY INFORMATION: This notice is published as part of the National Park Service's administrative responsibilities under NAGPRA. The determinations in this notice are the sole responsibility of the Autry Museum of the American West, and additional information on the determinations in this notice, including the results of consultation, can be found in the summary or related records. The National Park Service is not responsible for the determinations in this notice.

Abstract of Information Available

A total of four lots of cultural items have been requested for repatriation.

The one lot of unassociated funerary objects are faunal bone beads. In 1931, Sacramento Junior College archaeological field party including student Henry Gibbs, collected cultural items from Lincoln Mound (CA-Pla-14), Placer County, CA. Dr. L.B. Lillard, President of Sacramento Junior College, donated the cultural items in 1935 to the Southwest Museum (now part of Autry Museum of the American West).

The three lots of unassociated funerary objects are two lots of shell ornaments and one lot of cooking stones. The ornaments were found in collections in 2001, with a label of “Verona Mound, Maidu area, Adult burial”. Verona Mound is an archaeological site CA-Sut-11, in Sutter County, CA. It is unknown when the cultural items entered the Southwest Museum. However, based on institutional history, the cultural items could potentially be part of the cultural items recovered from Sacramento Junior College archaeological field party. Sacramento Junior College President Lillard gifted cultural items from various sites in 1935 to the Southwest Museum (now Autry Museum of the American West).

Determinations

The Autry Museum of the American West has determined that:

• The four lots of unassociated funerary objects described above are reasonably believed to have been placed intentionally with or near individual human remains, and are connected, either at the time of death or later as part of the death rite or ceremony and are believed, by a preponderance of the evidence, to have been removed from a specific burial site of an individual or individuals with cultural affiliation to an Indian Tribe or Native Hawaiian organization.

• There is a reasonable connection between the cultural items described in this notice and; the Shingle Springs Band of Miwok Indians, Shingle Springs Rancheria (Verona Tract), California and the United Auburn Indian Community of the Auburn Rancheria of California.

Requests for Repatriation

Additional, written requests for repatriation of the cultural items in this notice must be sent to the authorized representative identified in this notice under ADDRESSES. Requests for repatriation may be submitted by any lineal descendant, Indian Tribe, or Native Hawaiian organization not identified in this notice who shows, by a preponderance of the evidence, that the requestor is a lineal descendant or a culturally affiliated Indian Tribe or Native Hawaiian organization.

Repatriation of the cultural items in this notice to a requestor may occur on or after December 26, 2024. If competing requests for repatriation are received, the Autry Museum of the American West must determine the most appropriate requestor prior to repatriation. Requests for joint repatriation of the cultural items are considered a single request and not competing requests. The Autry Museum of the American West is responsible for sending a copy of this notice to the Indian Tribes and Native Hawaiian organizations identified in this notice and to any other consulting parties.

Authority: Native American Graves Protection and Repatriation Act, 25 U.S.C. 3004 and the implementing regulations, 43 CFR 10.9.

Dated: November 18, 2024.
Melanie O'Brien,
Manager, National NAGPRA Program.

[FR Doc. 2024-27504 Filed 11-22-24; 8:45 am]

BILLING CODE 4312-52-P